SECURITIES AND EXCHANGE COMMISSION

Investment Advisers Act of 1940, Release No. 4285/December 2, 2015; Notice of Intention To Cancel Registrations of Certain Investment Advisers Pursuant to Section 203(H) of the Investment Advisers Act of 1940

Notice is given that the Securities and Exchange Commission (the “Commission”) intends to issue an order or orders, pursuant to Section 203(h) of the Investment Advisers Act of 1940 (the “Act”), cancelling the registrations of the investment advisers whose names appear in the attached Appendix, hereinafter referred to as the registrants.

Section 203(h) of the Act provides, in pertinent part, that if the Commission finds that any person registered under Section 203, or who has pending an application for registration filed under that section, is no longer in existence, is not engaged in business as an investment adviser, or is prohibited from registering as an investment adviser under section 203A, the Commission shall by order, cancel the registration of such person.

The registrants listed in the Appendix either have not filed a Form ADV amendment with the Commission as required by rule 204-1 under the Act and appear to be no longer in business as investment advisers, or have indicated on Form ADV that they are no longer eligible to remain registered with the Commission as investment advisers but have not filed Form ADV-W to withdraw their registration. Accordingly, the Commission believes that reasonable grounds exist for a finding that these registrants are no longer in existence, are not engaged in business as investment advisers, or are prohibited from registering as investment advisers under section 203A of the Act, and that their registrations should be cancelled pursuant to section 203(h) of the Act.

Notice is also given that any interested person may, by Monday, December 28, 2015, at 5:30 p.m., submit to the Commission in writing a request for a hearing on the cancellation of a registrant, accompanied by a statement as to the nature of the writer's interest, the reason for such request, and the issues, if any, of fact or law proposed to be controverted, and the writer may request to be notified if the Commission should order a hearing thereon. Any such communication should be addressed: Secretary, Securities and Exchange Commission, Washington, DC 20549.

At any time after Monday, December 28, 2015, the Commission may issue an order or orders cancelling the registrations of any or all of the registrants listed in the Appendix, upon the basis of the information stated above, unless an order or orders for a hearing on the cancellation shall be issued upon request or upon the Commission's own motion. Persons who requested a hearing, or to be advised as to whether a hearing is ordered, will receive any notices and orders issued in this matter, including the date of the hearing (if ordered) and any postponements thereof. Any adviser whose registration is cancelled under delegated authority may appeal that decision directly to the Commission in accordance with rules 430 and 431 of the Commission's rules of practice (17 CFR 201.430 and 431).

For further information contact: Jamie Lynn Walter, Senior Counsel at 202-551-6999 (Division of Investment Management, Office of Investment Adviser Regulation).

For the Commission, by the Division of Investment Management, pursuant to delegated authority.¹
¹ 17 CFR 200.30-5(e)(2).
Robert W. Errett,
Deputy Secretary.

Appendix
801-72059 | SOLOMON HENDRIX & CO.
801-9488 | MAURY WADE & COMPANY.
801-71810 | BISHOP ASSET MANAGEMENT, LLC.
801-69144 | SAFE HAVEN ADVISORS, INC
801-70781 | WANGER OMNIWEALTH, LLC.
801-70401 | MIDWEST MORTGAGE ANALYTICS.
801-70533 | ALPHAMETRIX, LLC.
801-71189 | MORGAN FINCH, LLC.
801-77520 | ACCESS STRATEGIC ADVISORY GROUP, LLC.
801-66662 | ARNOTT CAPITAL PTY LTD.
801-71208 | KPDN INC.
801-69648 | FUTURE VALUE CONSULTANTS LIMITED.
801-65517 | FGS CAPITAL LLP.
801-71188 | CENTINELA CAPITAL PARTNERS, LLC.
801-72117 | MAP ALTERNATIVE ASSET MANAGEMENT COMPANY, LLC.
801-69898 | INSIGHT ONSITE STRATEGIC MANAGEMENT LLC.
801-10966 | GARY EUGENE GIBBONS DBA THE COLERIDGE GROUP.
801-77747 | NEW SOURCE MEDIA ADVISOR, LLC.
801-70916 | CMA ADVISORY GROUP, LLC.
801-78409 | CASICO, LLC.
801-78848 | RCG PARTNERS.
801-72000 | STAMBOULI MANAGEMENT CORP.
801-71089 | OPTIMIZE CAPITAL.
801-71439 | BATTENKILL CAPITAL MANAGEMENT, INC.
801-78049 | EXCALIBUR MANAGEMENT, LLC.
801-61973 | MEDITRON ASSET MANAGEMENT, LLC.
801-77143 | CAMELOT ACQUISITION SECONDARY OPPORTUNITIES MANAGEMENT, LLC.
801-63963 | HARPER ASSOCIATES, LLC.
801-28490 | FX CONCEPTS, LLC.
801-76567 | CUSTOM FINANCIAL SERVICES, LLC.
801-8984 | VALLEY FORGE MANAGEMENT CORP.
801-70460 | PAUL-ELLIS INVESTMENT ASSOCIATES.
801-77931 | YORKSHIRE CAPITAL MANAGEMENT LLC.
801-77496 | WILLIAMS CAPITAL STRATEGIES LLC.
801-72743 | NICHOLS CONSULTING.
801-62524 | PURCELL ADVISORY SERVICES, LLC.
801-76636 | PETROFF INSTITUTIONAL.
801-72299 | VASQUEZ & CO.

[FR Doc. 2015-30838 Filed 12-7-15; 8:45 am]

BILLING CODE 8011-01-P